DEPARTMENT OF TRANSPORTATION

Federal Aviation Administration

Notice of Intent To Rule on Request To Release Airport Property at the Roswell Air Center, Roswell, New Mexico

AGENCY: Federal Aviation Administration (FAA), DOT.

ACTION: Notice of request to release airport property.

SUMMARY: The FAA proposes to rule and invite public comment on the release of land at the Roswell Air Center under the provisions of Section 125 of the Wendell H. Ford Aviation Investment Reform Act for the 21st Century (AIR 21).

DATES: Comments must be received on or before August 23, 2021.

ADDRESSES: Comments on this application may be mailed or delivered to the FAA at the following address: Mr. Lacey D. Spriggs, Manager, Federal Aviation Administration, Southwest Region, Airports Division, Louisiana/New Mexico Airports Development Office, ASW-640, Fort Worth, Texas 76177.

In addition, one copy of any comments submitted to the FAA must be mailed or delivered to Mr. Scott Stark, Airport Director, at the following address: 1 Jerry Smith Circle, Roswell, NM 88203.

FOR FURTHER INFORMATION CONTACT: Mr. Jean Gamarra, Program Manager, Federal Aviation Administration, Louisiana/New Mexico Airports Development Office, ASW-640, 10101 Hillwood Parkway, Fort Worth, Texas 76177, Telephone: (817) 222-5522, Email: jean.gamarra@faa.gov, Fax: (817) 222-5989.

SUPPLEMENTARY INFORMATION: The FAA invites public comment on the request to release property at the Roswell Air Center under the provisions of the AIR 21.

The following is a brief overview of the request:

The City of Roswell requests the release of 13.3974 acres of non-aeronautical airport property. The land was acquired by Deed without Warranty from the United States on January 24th, 1968. The property to be released will be sold to allow for future airport development.

Any person may inspect the request in person at the FAA office listed above under FOR FURTHER INFORMATION CONTACT.

In addition, any person may, upon request, inspect the application, notice and other documents relevant to the application in person at the City of Roswell Legal Department, telephone number (575) 347-5703.

Issued in Fort Worth, Texas, on July 16, 2021.
Ignacio Flores,
Director, Office of Airports Southwest Region.

[FR Doc. 2021-15644 Filed 7-22-21; 8:45 am]

BILLING CODE P